COMMITTEE FOR PURCHASE FROM PEOPLE WHO ARE BLIND OR SEVERELY DISABLED

Procurement List; Proposed Addition and Deletions

AGENCY: Committee for Purchase From People Who are Blind or Severely Disabled.

ACTION: Proposed Addition to and Deletions from the Procurement List.

SUMMARY: The Committee is proposing to add a service to the Procurement List that will be furnished by a nonprofit agency employing persons who are blind or have other severe disabilities, and deletes products previously furnished by such agencies.

DATES: Comments Must Be Received On Or Before: 1/3/2016.

ADDRESSES: Committee for Purchase From People Who Are Blind or Severely Disabled, 1401 S. Clark Street, Suite 715, Arlington, Virginia 22202-4149.

FOR FURTHER INFORMATION CONTACT: For Further Information or to Submit Comments Contact: Barry S. Lineback, Telephone: (703) 603-7740, Fax: (703) 603-0655, or email CMTEFedReg@AbilityOne.gov.

SUPPLEMENTARY INFORMATION:

This notice is published pursuant to 41 U.S.C. 8503(a)(2) and 41 CFR 51-2.3. Its purpose is to provide interested persons an opportunity to submit comments on the proposed actions.

Addition

If the Committee approves the proposed addition, the entities of the Federal Government identified in this notice will be required to procure the service listed below from a nonprofit agency employing persons who are blind or have other severe disabilities.

The following service is proposed for addition to the Procurement List for production by the nonprofit agency listed:

Service

Service Type: Custodial Service

Mandatory for: US Air Force, Wright Patterson Air Force Base, Area C, 1940 Allbrook Drive, Wright Patterson AFB, OH

Mandatory Source(s) of Supply: Goodwill Easter Seals Miami Valley, Dayton, OH

Contracting Activity: DEPT OF THE AIR FORCE, FA8601 AFLCMC PZIO, Wright Patterson AFB, OH

Deletions

The following products are proposed for deletion from the Procurement List:

Products

NSN(s)—Product Name(s)

5340-01-218-8346—Bracket, Angle, Aviation

Mandatory Source(s) of Supply: Herkimer County Chapter, NYSARC, Herkimer, NY

Contracting Activity: DLA TROOP SUPPORT C&E HARDWARE, Philadelphia, PA

NSN(s)—Product Name(s)

4935-00-824-5469—Strap Set, Webbing

Mandatory Source(s) of Supply: Huntsville Rehabilitation Foundation, Huntsville, AL

Contracting Activity: DLA TROOP SUPPORT, Philadelphia, PA

NSN(s)—Product Name(s)

6545-00-139-3671—Kit, Survival

6545-01-521-8530—Kit, Survival

Mandatory Source(s) of Supply: Opportunity Resources, Inc., Missoula, MT

Contracting Activity: DLA TROOP SUPPORT, Philadelphia, PA

Barry S. Lineback,
Director, Business Operations.

[FR Doc. 2015-30669 Filed 12-3-15; 8:45 am]

BILLING CODE 6353-01-P